DEPARTMENT OF AGRICULTURE

Animal and Plant Health Inspection Service

[Docket No. APHIS-2011-0088]

Determination of Pest-Free Areas in Australia

AGENCY: Animal and Plant Health Inspection Service, USDA.

ACTION: Notice.

SUMMARY: We are advising the public that we are recognizing the Australian States of New South Wales, Northern Territory, Queensland, South Australia, Tasmania, and Victoria as free of Mediterranean fruit fly (Medfly) and the State of Western Australia as free of Queensland fruit fly. Based on our evaluation of the survey protocols and other information provided by Australia's national plant protection organization, which we made available to the public for review and comment through a previous notice, the Administrator has determined that these areas meet the criteria in our regulations for recognition as pest-free areas for either Medfly or Queensland fruit fly.

DATES: Effective Date: August 29, 2014.

FOR FURTHER INFORMATION CONTACT: Mr. George Apgar Balady, Senior Regulatory Policy Specialist, Regulatory Coordination and Compliance, PPQ, APHIS, 4700 River Road Unit 133, Riverdale, MD 20737-1236; (301) 851-2240.

SUPPLEMENTARY INFORMATION: Under the regulations in “Subpart—Fruits and Vegetables” (7 CFR 319.56-1 through 319.56-69, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis, can be safely imported subject to one or more of the designated phytosanitary measures listed in paragraph (b) of that section. One of the designated phytosanitary measures is that the fruits or vegetables are imported from a pest-free area in the country of origin that meets the requirements of § 319.56-5 for freedom from that pest and are accompanied by a phytosanitary certificate stating that the fruits or vegetables originated in a pest-free area in the country of origin.

Under the regulations in § 319.56-5, APHIS requires that determinations of pest-free areas be made in accordance with the criteria for establishing freedom from pests found in International Standards for Phytosanitary Measures (ISPM) No. 4, “Requirements For the Establishment of Pest Free Areas.” The international standard was established by the International Plant Protection Convention of the United Nations' Food and Agriculture Organization and is incorporated by reference in our regulations in 7 CFR 300.5. In addition, APHIS must also approve the survey protocol used to determine and maintain pest-free status, as well as protocols for actions to be performed upon detection of a pest. Pest-free areas are subject to audit by APHIS to verify their status.

In accordance with our process, we published a notice ¹ in the Federal Register on September 14, 2011 (76 FR 56730-56731, Docket No. APHIS-2011-0088), in which we announced the availability, for review and comment, of a commodity import evaluation document (CIED) that evaluates the information presented by Australia in support of its request to recognize new areas of that country as being free of Ceratitis capitata, the Mediterranean fruit fly (Medfly), and to recognize other areas of the country as being free of Bactrocera tryoni, the Queensland fruit fly. Specifically, the Government of Australia asked that we recognize the States of New South Wales, Northern Territory, Queensland, South Australia, Tasmania, and Victoria as free of Medfly and the State of Western Australia as free of Queensland fruit fly.

¹ To view the notice, the CIED, and the comment we received, go to http://www.regulations.gov/#!docketDetail;D=APHIS-2011-0088.

We solicited comments on the notice for 60 days ending on November 14, 2011. We received one comment by that date, from a State agricultural official. The comment is discussed below.

The commenter expressed concern about the expansion of fruit fly-free areas because the introduction of Medfly or Queensland fly into the commenter's State could result in costly eradication programs and possible economic losses for producers due to quarantines and market disruptions.

APHIS has recognized various areas of Australia as free of Medfly, Queensland fruit fly, and other fruit flies destructive to citrus for over 10 years, and no fruit fly problems have occurred as a result of commodities being imported into the United States from these areas. Populations of Medfly are restricted to a small part of the southwest of Western Australia and isolated communities in coastal towns in the north of the State. With the exception of the fruit fly exclusion zone consisting of parts of South Australia, northern Victoria, and southern New South Wales, populations of Queensland fruit fly are restricted to Queensland, New South Wales, Victoria, and the Northern Territory.

Freedom from Medfly outside the State of Western Australia has been established by results from ongoing monitoring with permanent Medfly traps, as part of the national trapping grid. Australia has not trapped a Medfly in an eastern Australian State since 1953 in Melbourne. After a single Medfly was detected in the Katherine area in Northwest Australia in 1994, eradication activities were initiated and no further detections have occurred.

The national plant protection organization (NPPO) of Australia has declared the whole State of Western Australia free of Queensland fruit fly, and although incursions have been reported, these have been successfully eradicated. The Queensland fruit fly was eradicated from the Perth metropolitan area in 1990. APHIS will continuously monitor commodities from Australia with port-of-entry inspections. We believe that this gives the United States robust protection from fruit flies.

The commenter also stated that an area should not be declared free of only select fruit flies. The commenter suggested that the fruit-fly-free designation should be applied only to areas free from all fruit flies of economic importance because recognizing areas as free from one species but not another is inconsistent and confusing.

Although APHIS is recognizing portions of Australia as free of Medfly and another portion of Australia as free of the Queensland fruit fly, host material (fruit) from these areas of Australia would still require mitigation, typically quarantine treatment, before importation into the United States. Commodities from the areas of Australia where Medfly is the only pest of concern would require only mitigations for Medfly. Likewise, commodities originating from areas in Australia where Queensland fruit fly is the only pest of concern would require only mitigations for Queensland fruit fly. The benefit of declaring these areas as free from only one of the fruit flies that may infest the commodity is that the treatment for either fruit fly is less stringent than the treatment that would be required for a commodity originating from an area where both species are present. For instance, cherries from Australia that are imported into the United States must undergo cold treatment for Queensland fruit fly and must be treated with methyl bromide for Medfly. However, with the recognition of fruit fly areas as described in this notice, no area of Australia is home to both Medfly and Queensland fruit fly. Therefore, cherries imported from Australia will only have to be treated with cold treatment if originating from an area where Queensland fruit fly is present or be treated with methyl bromide if originating from an area where Medfly is present.

The commenter asked about the trap densities in Australia, stating that the 25,000 fruit fly traps maintained by the NPPO of Australia and the Australian State and territorial governments is low compared to the more than 55,000 fruit fly traps maintained in Florida.

Australia maintains trap densities that are in line with International Atomic Energy Agency fruit fly trapping guidelines, the same guidelines that the United States follows. Australia's trapping manual specifies that the traps be deployed on a 400 km grid in urban areas and 1 km grid in horticultural production areas. The fruit fly trapping programs in Australia are concentrated in fruit-growing regions in order to provide support for fruit fly freedom for specific areas, such as the districts of Riverland, Riverina, and Sunraysia. The climate in many parts of Australia does not support the presence of fruit fly hosts or provide conditions suitable for fruit fly survival, and trapping is not required in these areas. In addition, Australia requires that their trapping systems, including trap density and placement, undergo annual audits to ensure their effectiveness.

The commenter asked about the population dynamics of Medfly and Queensland fruit fly in the specified Australian States. The commenter also asked what types of onsite assessments have been done and whether future program audits are planned.

In areas of Eastern Australia where the Queensland fruit fly can be found, it is most active in summer and fall. Cold and dry conditions, especially freezes, cause reductions in populations. The NPPO of Australia has declared the whole State of Western Australia free of Queensland fruit fly and, although incursions have been reported, these have been successfully eradicated.

Medfly is active in the summer months in Western Australia, where sterile insect technique (SIT), biocontrol, and other suppression strategies are being used. Confirmation of Medfly distribution in Western Australia is obtained and verified through specific detection surveys. Freedom from Medfly in other Australian States has been established by results from ongoing monitoring with permanent Medfly traps as part of the national trapping grid. In South Australia, any detections of Medfly from the stringent surveillance networks are rapidly followed by eradication activities. In the Northern Territory, a number of trapping and detection systems have been maintained in both urban and horticultural areas for Medfly since 1985. While there have been some detections of small numbers of Medfly in South Australia and the Northern Territory, effective detection and eradication programs have successfully maintained both South Australia and the Northern Territory as free from Medfly.

On-site assessments by APHIS were conducted for the pest-free areas in Riverland, Riverina, and Sunraysia when they were first established. Based on our experiences with the NPPO of Australia and with the importation of fruit fly host commodities from areas APHIS has previously recognized as free of fruit flies, we determined that no additional site visits were necessary here. We will inspect commodities imported from Australia for fruit flies at the port of entry and we will rely on the annual survey data from the NPPO of Australia to inform us if fruit flies are found in areas that we have recognized as free of fruit flies. We do not currently plan to conduct further site visits or formal program audits but reserve the right to do so in the future if necessary.

The commenter also expressed concern about the adequacy, in his view, of opportunities for stakeholder involvement in the initial stages of the development of these types of program proposals. The commenter requested the opportunity to participate in site visits and initial program review discussions on issues that could directly impact his State.

APHIS is committed to a transparent process and an inclusive role for stakeholders in our risk analysis process. To that end, we have put in place a stakeholder notification system ² to provide opportunities for involvement during the initial stages of the development of pest risk assessments. However, since this comment relates to the structure of APHIS's overall risk analysis process, and not to the determination of pest-free areas in Australia, it is outside the scope of the current action.

² Go to https://public.govdelivery.com/accounts/USDAAPHIS/subscriber/new?preferences=true#tab1.

Therefore, in accordance with § 319.56-5(c), we are announcing the Administrator's determination that the States of New South Wales, Northern Territory, Queensland, South Australia, Tasmania, and Victoria meet the criteria of § 319.56-5(a) and (b) with respect to freedom from Medfly and the State of Western Australia meets the criteria of § 319.56-5(a) and (b) with respect to freedom from Queensland fruit fly. Accordingly, we are amending the list of pest-free areas to list the States of New South Wales, Northern Territory, Queensland, South Australia, Tasmania, and Victoria as free of Medfly and the State of Western Australia as free of Queensland fruit fly. A list of pest-free areas currently recognized by APHIS can be found at http://www.aphis.usda.gov/import_export/plants/manuals/ports/downloads/DesignatedPestFreeAreas.pdf.

Done in Washington, DC, this 25th day of August 2014.
Kevin Shea,
Administrator, Animal and Plant Health Inspection Service.

[FR Doc. 2014-20613 Filed 8-28-14; 8:45 am]

BILLING CODE 3410-34-P